DEPARTMENT OF TRANSPORTATION

Federal Aviation Administration

14 CFR Part 39

[Docket No. FAA-2014-0757; Directorate Identifier 2014-SW-030-AD; Amendment 39-17988; AD 2014-20-15]

RIN 2120-AA64

Airworthiness Directives; Airbus Helicopters, Inc. (Previously Eurocopter France) Helicopters

AGENCY: Federal Aviation Administration (FAA), Department of Transportation (DOT).

ACTION: Final rule; request for comments.

SUMMARY: We are superseding airworthiness directive (AD) 2012-02-13 for certain Airbus Helicopters, Inc. (Airbus Helicopters) Model EC130B4 helicopters. AD 2012-02-13 required inspecting certain areas of the tailboom/Fenestron junction frame (junction frame) for a crack. This AD retains the requirements of AD 2012-02-13, expands the inspection area of the junction frame, and reduces the repetitive inspection interval. These actions are intended to detect a crack in the junction frame, which could result in detachment of the Fenestron and subsequent loss of control of the helicopter.

DATES: This AD becomes effective October 22, 2014.

The Director of the Federal Register approved the incorporation by reference of a certain document listed in this AD as of October 22, 2014.

We must receive comments on this AD by December 8, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the European Aviation Safety Agency (EASA) AD, any incorporated by reference service information, the economic evaluation, any comments received, and other information. The street address for the Docket Operations Office (telephone 800-647-5527) is in the ADDRESSES section. Comments will be available in the AD docket shortly after receipt.

For service information identified in this AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

On January 23, 2012, we issued AD 2012-02-13, Amendment 39-16936 (77 FR 5994, February 7, 2012), which required repetitively inspecting the right-hand side of the junction frame for a crack, and if there was a crack, replacing the tailboom before further flight.

AD 2012-02-13 was prompted by AD No. 2011-0116, dated July 6, 2011 (AD 2011-0116), issued by EASA, which is the Technical Agent for the Member States of the European Union, to correct an unsafe condition for Eurocopter France (now Airbus Helicopters) Model EC130B4 helicopters. EASA advises of several reports of cracks in the junction frame developing in the plane of the rivet head countersink on the right-hand side of the Fenestron and spreading to the web of the frame. EASA further advises that this condition could lead to structural failure resulting in Fenestron detachment and subsequent loss of control of the helicopter. EASA AD 2011-0116 required compliance with Eurocopter's service information to repetitively inspect the affected area and depending on findings, accomplish corrective actions.

Actions Since AD 2012-02-13 Was Issued

Since we issued AD 2012-02-13, EASA has issued AD No. 2014-0114-E, dated May 8, 2014, which superseded EASA AD 2011-0116, for Airbus Helicopters Model EC130B4 helicopters, except those with Modification (MOD) 073880, those with MOD 074609, or those that have been repaired in accordance with certain Repair Design Approval Sheets. EASA advises that after issuing EASA AD 2011-0116, Airbus Helicopters developed MOD 074609, which limits the risk of cracks appearing on the junction frame, and revised its service information to expand the area of inspection. EASA AD 2014-0114-E requires repetitively inspecting the entire circumference of the junction frame for a crack, and also requires altering the helicopter in accordance with MOD 074609 as a terminating action for the repetitive inspections.

We have also determined that the repetitive inspection interval can be reduced to 40 hours time-in-service (TIS) as specified in the Airbus Helicopters service information.

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs.

Related Service Information

Airbus Helicopters, Inc. has published Emergency Alert Service Bulletin (EASB) No. 53A019, Revision 1, dated April 15, 2014 (EASB 53A019). EASB 53A019 describes procedures for inspecting the entire circumference of the junction frame from the inside and outside for cracks. If there is a crack, EASB 53A019 requires contacting Airbus Helicopters for approved repair instructions. Finally, if there is not a crack, EASB 53A019 requires altering the helicopter in accordance with MOD 074609 before December 12, 2017.

AD Requirements

This AD requires repetitively inspecting the circumference of the junction frame for a crack by complying with specified portions of the manufacturer's service bulletin, and replacing the junction frame if there is a crack. This AD also prohibits installing a tailboom without MOD 073880 on any helicopter.

Differences Between This AD and the EASA AD

The EASA AD allows for flights for a certain period of time with known cracks, while this AD does not permit operations with known cracks. The EASA AD allows for an initial inspection which does not require stripping the paint, and then stripping the paint prior to inspection within 110 flight hours. This AD mandates stripping the paint as part of the initial inspection. The EASA AD requires altering the helicopter with MOD 074609 before December 31, 2017, and this AD does not. The EASA AD requires contacting Airbus Helicopters for repair instructions if there is a crack, while this AD requires replacing the junction frame.

Costs of Compliance

We estimate that this AD affects 160 helicopters of U.S. Registry.

We estimate that operators may incur the following costs in order to comply with this AD. Inspecting the junction frame for a crack will require 1 work-hour at an average labor cost of $85 per hour, for a total cost per inspection cycle $85 per helicopter and $13,600 for the entire fleet. If required, replacing a tailboom will require 50 work-hours and required parts will cost $60,000, for a cost per helicopter of $64,250.

FAA's Justification and Determination of the Effective Date

Providing an opportunity for public comments before adopting these AD requirements would delay implementing the safety actions needed to correct this known unsafe condition. Therefore, we find the risk to the flying public justifies waiving notice and comment prior to the adoption of this rule because the cracks are in a primary structure of the helicopter that may prevent further safe flight and the required corrective actions must be accomplished within 10 hours TIS, a very short time period for the air tour and helicopter emergency medical services operations of these helicopters.

Since an unsafe condition exists that requires the immediate adoption of this AD, we determined notice and opportunity for public comment before issuing this AD are impracticable and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-02-13, Amendment 39-16936 (77 FR 5994, February 7, 2012), and adding the following new AD:

2014-20-15 Airbus Helicopters, Inc. (Previously Eurocopter France): Amendment 39-17988; Docket No. FAA-2014-0757; Directorate Identifier 2014-SW-030-AD.

(a) Applicability

This AD applies to Model EC130B4 helicopters that do not have Modification (MOD) 073880 incorporated, all serial numbers, certificated in any category.

(b) Unsafe Condition

This AD defines the unsafe condition as cracks on the tailboom/Fenestron junction frame (junction frame). This condition could result in structural failure of the tailboom, detachment of the Fenestron, and subsequent loss of control of the helicopter.

(c) Affected ADs

This AD supersedes AD 2012-02-13, Amendment 39-16936 (77 FR 5994, February 7, 2012).

(d) Effective Date

This AD becomes effective October 22, 2014.

(e) Compliance

You are responsible for performing each action required by this AD within the specified compliance time unless it has already been accomplished prior to that time.

(f) Required Actions

(1) Within 10 hours time-in-service (TIS):

(i) Inspect the right-hand side of the junction frame for cracks in the web from the inside as depicted in Details C and D of Figure 2 of Airbus Helicopters Emergency Alert Service Bulletin No. 53A019, Revision 1, dated April 15, 2014 (EASB).

(ii) Strip the paint around the entire circumference of the junction frame as depicted in Detail E of Figure 3 of the EASB. Apply a coat of primer to the stripped area. Apply varnish to the stripped area.

(iii) Inspect the stripped area of the frame for cracks from the outside.

(2) Thereafter at intervals not to exceed 40 hours TIS, inspect the frame by following the inspection requirements of paragraphs (f)(1)(i) and (f)(1)(iii) of this AD.

(3) If there is a crack, before further flight, replace the junction frame with an airworthy junction frame.

(4) Do not install a tailboom that does not incorporate MOD 073880 on any helicopter.

(g) Special Flight Permits

Special flight permits are prohibited.

(h) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(i) Additional Information

The subject of this AD is addressed in European Aviation Safety Agency (EASA) AD No. 2014-0114-E, dated May 8, 2014. You may view the EASA AD on the Internet at http://www.regulations.gov in Docket No. FAA-2014-0757.

(j) Subject

Joint Aircraft Service Component (JASC) Code: 5302: Rotorcraft Tail Boom.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Helicopters Emergency Alert Service Bulletin No. 53A019, Revision 1, dated April 15, 2014.

(ii) Reserved.

(3) For Airbus Helicopters, Inc. service information identified in this AD, contact Airbus Helicopters, Inc., 2701 N. Forum Drive, Grand Prairie, TX 75052; telephone (972) 641-0000 or (800) 232-0323; fax (972) 641-3775; or at http://www.airbushelicopters.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on September 22, 2014.
Lance T. Gant,
Acting Directorate Manager, Rotorcraft Directorate, Aircraft Certification Service.

[FR Doc. 2014-23594 Filed 10-6-14; 8:45 am]

BILLING CODE 4910-13-P